DEPARTMENT OF TRANSPORTATION

Federal Aviation Administration

Public Notice for Waiver of Aeronautical Land-Use Assurance

AGENCY: Federal Aviation Administration (FAA), DOT.

ACTION: Notice of intent of waiver with respect to land; Wittman Regional Airport, Oshkosh, Wisconsin.

SUMMARY: The FAA is considering a proposal to change approximately 0.242 acres of airport land consisting of two separate parcels from aeronautical use to non-aeronautical use, and to authorize the transfer of these airport properties located at Wittman Regional Airport, to the City of Oshkosh (City) in exchange for 4.764 acres owned by the City.

The two parcels of airport land which are currently primarily used as roadway right-of-way and ditches are proposed for non-aeronautical uses. These parcels are no longer needed for aeronautical use. Cul-de-sacs are proposed to be built on each property and the land swapped with the City of Oshkosh in exchange for 4.764 acres of land within two existing public road rights-of-way (portions of West Waukau Avenue and Knapp Street). The lands the airport will receive were vacated by the City of Oshkosh in May 2013 and access will be maintained to adjacent uses by private streets within fenced airport property. A portion of airport property for the proposed West Waukau Avenue cul-de-sac has a portable building used by the Winnebago Sheriff's Department during EAA AirVenture. The building will be shifted 140 feet north to remain on airport property.

DATES: Comments must be received on or before August 12, 2013.

ADDRESSES: Documents are available for review by appointment at the FAA Airports District Office, Gina Mitchell, Community Planner, 6020 28th Avenue South, Room 102, Minneapolis, Minnesota, 55450, Telephone: (612) 253-4641/Fax: (612) 253-4611 and Peter Moll, Airport Director, 525 West 20th Avenue, Oshkosh, Wisconsin, 54902-6871, Telephone: (920) 236-4930.

Written comments on the Sponsor's request must be delivered or mailed to: Gina Mitchell, Community Planner, Federal Aviation Administration, Minneapolis Airports District Office, 6020 28th Avenue South, Room 102, Minneapolis, MN 55450, Telephone: (612) 253-4641/Fax: (612) 253-4611.

FOR FURTHER INFORMATION CONTACT: Gina Mitchell, Community Planner, Federal Aviation Administration, Airports District Office, 6020 28th Avenue South, Room 102, Minneapolis, MN 55450, Telephone: (612) 253-4641/Fax: (612) 253-4611.

SUPPLEMENTARY INFORMATION: In accordance with section 47107(h) of Title 49, United States Code, this notice is required to be published in the Federal Register 30 days before modifying the land-use assurance that requires the property to be used for an aeronautical purpose.

The two parcels proposed to be released are no longer needed for aeronautical use. Parcel 108 is 0.11 acres in size and located north of the intersection of Knapp Street and Schaick Avenue. A cul-de-sac will be constructed in what will become the north termini of Knapp Street. This land was acquired as part of Airport Property Parcel 81 in 1996 with an Airport Improvement Program (AIP) grant (AIP-16). Parcel 109 is 0.132 acres in size and located near the current site of the Winnebago Sheriff's Department building. A cul-de-sac and stormwater detention pond will be constructed in what will become the east termini of West Waukau Avenue. This land was acquired as part of Airport Property Parcel 66 in 1995 with AIP grant (AIP-15). The land to become dedicated City of Oshkosh public road right-of-way totals 0.242 acres.

The airport is proposing to exchange 4.764 acres with the City of Oshkosh comprised of approximately 1,510 feet of West Waukau Avenue located west of Runway 18/36 and approximately 1,634 feet of Knapp Street located north of Schaick Avenue and south of West Waukau Avenue. Access will be maintained to adjacent FAA and EAA AirVenture land uses by means of private streets within fenced airport property.

Approval does not constitute a commitment by the FAA to financially assist in the disposal of the subject airport property nor a determination of eligibility for grant-in-aid funding from the FAA.

An appraisal was not completed for the two proposed parcels to be released, because the fair market value of the land was determined to be less than $25,000. The airport property will be an even exchange for the City of Oshkosh road right-of-way. There will be no proceeds from the exchange and the exchange will be in accordance with FAA's Policy and Procedures Concerning the Use of Airport Revenue, published in the Federal Register on February 16, 1999 (64 FR 7696).

Parcel 108:

A parcel of land being part of the Southeast Quarter of the Northeast Quarter of Section 3, T17N, R16E, City of Oshkosh, Winnebago County, Wisconsin more fully described as follows:

Commencing at the East Quarter Corner of Section 3, T17N, R16E,

Thence N01°22′55″ E coincident with the East line of the Northeast Quarter of Section 3 a distance of 1012.07 feet;

Thence N88°04′26″ W a distance of 33.02 feet to the point of beginning;

Thence N01°22′55″ E coincident with the existing West right-of-way of Knapp Street Road a distance of 121.24 feet;

Thence N88°37′05″ W a distance of 45.00 feet;

Thence S04°23′53″ W a distance of 80.17 feet;

Thence S48°41′10″ E a distance of 64.16 feet to the point of beginning.

Parcel 109:

A parcel of land being part of the Southeast Quarter of the Southeast Quarter of Section 34, T18N, R16E, City of Oshkosh, Winnebago County, Wisconsin more fully described as follows:

Commencing at the Southeast corner of Section 34, T18N, R16E,

Thence N88°47′19″ W coincident with the South line of the Southeast Quarter of Section 34 a distance of 704.18 feet; Thence N01°02′02″ E a distance of 33.00' to the beginning of a curve which is also the point of beginning;

Thence coincident with said curve turning the left through an angle of 160°34′55″ having a radius of 60.00 feet and whose long chord bears N79°04′46″ W and is 118.28 feet in length coincident with the new Northerly right-of-way line for West Waukau Avenue a distance of 168.16 feet to a point of reverse curvature; said curve turning to the right through an angle of 66°25′52″ having a radius of 30.00 feet and whose long chord bears S53°50′43″ W and is 32.87 feet in length coincident with the new Northerly right-of-way line for West Waukau Avenue a distance of 34.78 feet to the existing Northerly right-of-way line of West Waukau Avenue; thence S88°47′19″ E coincident with said right-of-way line a distance of 142.71 feet to the point of beginning.

Issued in Minneapolis, Minnesota on June 18, 2013.
Christopher Hugunin,
Manager, Minneapolis Airports District Office, FAA, Great Lakes Region.

[FR Doc. 2013-16662 Filed 7-10-13; 8:45 am]

BILLING CODE 4910-13-P